ENVIRONMENTAL PROTECTION AGENCY

40 CFR Part 52

[IA-200-1200; FRL-7608-3]

Approval and Promulgation of Implementation Plans; State of Iowa; Correction

Correction

In rule document 04-374 beginning on page 1537 in the issue of Friday, January 9, 2004, make the following correction:

§52.820 [Corrected]

On page 1538, in §52.820, in the table, in the entry for Polk County, in the third column “Comments,” the first line “Article I, Board of Section 5-2” should read, “Article I, Section 5-2.”

[FR Doc. C4-374 Filed 1-20-04; 8:45 am]

BILLING CODE 1505-01-D

SECURITIES AND EXCHANGE COMMISSION

[Release No. 34-48883; File No. SR-PCX-2003-24]

Self-Regulatory Organizations; Pacific Exchange, Inc.; Order Approving Proposed Rule Change and Amendments No. 1 and 2 and Notice of Filing and Order Granting Accelerated Approval to Amendment No. 3 Relating to the Implementation of a Closing Auction for the Archipelago Exchange and the Establishment of Market-on-Close and Limit-on-Close Order Types

December 4, 2003.

Correction

In notice document 03-30838 beginning on page 69748 in the issue of Monday, December 15, 2003, make the following correction:

On page 69753, in the first column, under the heading “IV. Solicitation of Comments”, in the last two lines, “[insert date 21 days from date of publication]” should read “January 5, 2004”.

[FR Doc. C3-30838 Filed 1-20-04; 8:45 am]

BILLING CODE 1505-01-D